DEPARTMENT OF VETERANS AFFAIRS

Amended: Advisory Committee on Homeless Veterans, Notice of Meeting

The Department of Veterans Affairs (VA) gives notice under the Federal Advisory Committee Act, 5 U.S.C. App. 2., that the Advisory Committee on Homeless Veterans will meet May 10-May 12, 2017 at various locations in Washington DC. This notice is amended to reflect a change in the meeting time and location.

Date | Time | Location
May 10, 2017 | 8:00 a.m.-5:00 p.m. | 810 Vermont Avenue NW., Conference Room 530, Washington, DC 20420.
* May 11, 2017 | 8:20 a.m.-4:45 p.m. | American Legion Headquarters, Main Conference Room, 1608 K Street NW., Washington, DC 20006.
May 12, 2017 | 8:00 a.m.-12:00 p.m. | 810 Vermont Avenue NW., Conference Room 530, Washington, DC 20420.
Note: The asterisk (*) reflects the new meeting time and location.

The meeting sessions are open to the public.

The purpose of the Committee is to provide the Secretary of Veterans Affairs with an on-going assessment of the effectiveness of the policies, organizational structures, and services of VA in assisting Veterans at-risk and experiencing homelessness. The Committee shall assemble and review information related to the needs of homeless Veterans and provide advice on the most appropriate means of providing assistance to that subset of the Veteran population. The Committee will make recommendations to the Secretary regarding such activities.

The agenda will include briefings from officials at VA and other agencies regarding services for homeless Veterans. The Committee will also receive a briefing on the annual report that was developed after the last meeting of the Advisory Committee on Homeless Veterans and will then discuss topics for its upcoming annual report and recommendations to the Secretary of Veterans Affairs.

No time will be allocated at this meeting for receiving oral presentations from the public. Interested parties should provide written comments on issues affecting Veterans at-risk and experiencing homelessness for review by the Committee to Anthony Love, Designated Federal Officer, VHA Homeless Programs Office (10NC1), Department of Veterans Affairs, 90 K Street Northeast, Washington, DC, or via email at Anthony.Love@va.gov.

Members of the public who wish to attend in-person should contact both Charles Selby and Timothy Underwood of the VHA Homeless Program Office by April 25, 2017, at Charles.Selby@va.gov and Timothy.Underwood@va.gov, while providing their name, professional affiliation, address, and phone number. There will also be a call-in number at 1-800-767-1750; Access Code: 79421#. Because the meeting is being held in a government building, a photo I.D. must be presented at the Guard's Desk as a part of the clearance process. Due to an increase in security protocols, and in order to prevent delays in clearance processing, you should allow an additional 30 minutes before the meeting begins. Attendees who require reasonable accommodation should state so in their requests.

Dated: May 2, 2017.
Jelessa M. Burney,
Federal Advisory Committee Management Officer.

[FR Doc. 2017-09134 Filed 5-4-17; 8:45 am]

BILLING CODE P